DEPARTMENT OF TRANSPORTATION

Federal Aviation Administration

14 CFR Parts 91, 119, 125, 133, 137, 141, 142, 145, and 147

[Docket No. FAA-2008-1154; Amendment Nos. 91-325, 119-15, 125-61, 133-14, 137-16, 141-16, 142-8, 145-29, and 147-7]

RIN 2120-AJ36

Restrictions on Operators Employing Former Flight Standards Service Aviation Safety Inspectors; Correction

AGENCY: Federal Aviation Administration (FAA), DOT.

ACTION: Final rule; correction.

SUMMARY: The FAA is correcting a final rule published on August 22, 2011 (76 FR 52231). In that final rule the FAA prohibited any person holding a certificate from knowingly employing, or making a contractual arrangement with, certain individuals to act as an agent or a representative of the certificate holder in any matter before the FAA under certain conditions. This document corrects an amendment number.

DATES: Effective September 16, 2011.

FOR FURTHER INFORMATION CONTACT: For technical questions concerning this final rule, contact Nancy Lauck Claussen, Federal Aviation Administration, Air Transportation Division, AFS-200, 800 Independence Avenue, SW., Washington, DC 20591; telephone (202) 267-8166.

Background

On August 22, 2011, the FAA published a final rule entitled “Restrictions on Operators Employing Former Flight Standards Service Aviation Safety Inspectors” (76 FR 52231).

In that final rule the FAA prohibited any person holding a certificate from knowingly employing, or making a contractual arrangement with, certain individuals to act as an agent or a representative of the certificate holder in any matter before the FAA under certain conditions. These restrictions apply if the individual, in the preceding 2 year period directly served as, or was directly responsible for the oversight of, a Flight Standards Service Aviation Safety Inspector, and had direct responsibility to inspect, or oversee the inspection of, the operations of the certificate holder. This rule also applies to persons who own or manage fractional ownership program aircraft that are used to conduct operations under specific regulations described in this document. This rule establishes these restrictions to prevent potential organizational conflicts of interest which could adversely affect aviation safety.

Correction to Preamble

This technical amendment makes one revision to the preamble section of the final rule. The amendment number “119-5” should read “119-15”.

Issued in Washington, DC, on September 8, 2011.
Dennis R. Pratte,
Acting Director, Office of Rulemaking.

[FR Doc. 2011-23805 Filed 9-15-11; 8:45 am]

BILLING CODE 4910-13-P